FEDERAL COMMUNICATIONS COMMISSION

[OMB 3060-XXXX; FR ID 217231]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before July 1, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-xxxx.

Title: Section 9.10(s), Location-Based Routing for Wireless 911 Calls.

Form Number: N/A.

Type of Review: New information collection.

Respondents: Business or other for-profit entities.

Number of Respondents and Responses: 59 respondents; 59 responses.

Estimated Time per Response: 40 hours.

Frequency of Response: One-time and on occasion reporting requirement.

Obligation to Respond: Mandatory. Statutory authority for this collection is contained in sections 1, 2, 4(i), 4(j), 4(o), 251(e), 303(b), 303(g), 303(r), 316, and 403 of the Communications Act of 1934, as amended, 47 U.S.C. 151, 152, 154(i), 154(j), 154(o), 251(e), 303(b), 303(g), 303(r), 316, 403, and section 4 of the Wireless Communications and Public Safety Act of 1999, Public Law 106-81, sections 101 and 201 of the New and Emerging Technologies 911 Improvement Act of 2008, Public Law 110-283, and section 106 of the Twenty-First Century Communications and Video Accessibility Act of 2010, Public Law 111-260, as amended 47 U.S.C. 615a, 615a-1, 615b, 615c.

Total Annual Burden: 2,360 hours.

Total Annual Cost: No Cost.

Needs and Uses: Technical limitations of legacy Enhanced 911 (E911) routing can result in a Commercial Mobile Radio Service (CMRS) provider routing a wireless 911 call to a Public Safety Answering Point (PSAP) other than the one designated by the relevant state or local 911 authority to receive calls from the actual location of the caller. To improve emergency response times, the Commission adopted rules and procedures to require CMRS providers to implement location-based routing (LBR) for wireless 911 voice calls and real-time text (RTT) communications to 911 nationwide. With location-based routing as implemented under the Commission's rules, CMRS providers will use precise location information to route wireless 911 voice calls and RTT communications to 911 to the appropriate public safety answering point. To facilitate the implementation of location-based routing for wireless 911 voice calls and RTT communications to 911, and to monitor compliance, promote transparency, and ensure accountability, the Commission adopted certain information collection requirements.

Certification and reporting. The Commission will use the information collected pursuant to section 9.10(s)(4) that is submitted by the CMRS providers in their compliance certifications, including technologies and methodologies used, and live call data reports to assess and monitor the implementation of LBR for wireless 911 voice calls and RTT communications to 911 call centers nationwide. Also, the Commission would use the data generated by the information collections to analyze the effectiveness of the LBR implementation at the benchmark dates set forth in the rules. In addition, it is imperative that CMRS providers ensure the privacy and security of location-based routing information.

Section 9.10(s)(4) requires that within 60 days after each benchmark specified in paragraphs (s)(1)(i), (ii), and (2) of section 9.10 of the rules, CMRS providers must comply with the following certification and reporting requirements.

Under section 9.10(s)(4)(i)(A), CMRS providers must certify that they are in compliance with the requirements specified in paragraphs (s)(1)(i), (ii), and (2) of this section applicable to them.

Under section 9.10(s)(4)(i)(B), CMRS providers must identify specific network architecture, systems, and procedures used to comply with paragraphs (s)(1)(i), (ii), and (2) of this section, including the extent to which the CMRS provider validates location information for routing purposes and the validation practices used in connection with this information.

Under section 9.10(s)(4)(i)(C), CMRS providers must certify that neither they nor any third party they rely on to obtain location information or associated data used for compliance with paragraphs (s)(1)(i), (ii), or (2) of this section will use such location information or associated data for any non-911 purpose, except with prior express consent or as otherwise required by law. The certification must state that the CMRS provider and any third parties it relies on to obtain location information or associated data used for compliance with paragraphs (s)(1)(i), (ii), or (2) of this section have implemented measures sufficient to safeguard the privacy and security of such location information or associated data.

Under section 9.10(s)(4)(ii)(A), CMRS providers must collect and report aggregate data on the routing technologies used for all live wireless 911 voice calls in the locations specified for live 911 call location data in paragraph (i)(3)(ii) of this section for a thirty-day period which begins on the compliance date(s) specified in paragraphs (s)(1)(i) and (ii) of this section. CMRS providers must retain live wireless 911 voice call data gathered pursuant to this section for a period of 2 years. CMRS providers must collect and report the following data, expressed as both a number and percentage of the total number of live wireless 911 voice calls for which data is collected pursuant to this section.

Under section 9.10(s)(4)(ii)(A)(1), CMRS providers must collect and report the data, expressed as both a number and percentage of the total number of live wireless 911 voice calls for which data is collected pursuant to this section, for live wireless 911 voice calls routed with location-based routing using location information that meets the timeliness and accuracy thresholds defined in paragraph (s)(3)(i)(A) and (B) of this section.

Under section 9.10(s)(4)(ii)(A)(2), CMRS providers must collect and report the data, expressed as both a number and percentage of the total number of live wireless 911 voice calls for which data is collected pursuant to this section, for live wireless 911 voice calls routed with location-based routing using location information that does not meet the timeliness or accuracy thresholds defined in paragraph (s)(3)(i)(A) and (B) of this section.

Under section 9.10(s)(4)(ii)(A)(3), CMRS providers must collect and report the data, expressed as both a number and percentage of the total number of live wireless 911 voice calls for which data is collected pursuant to this section, for live wireless 911 voice calls routed using tower-based routing.

Modification of deadlines by agreement. To monitor compliance dates agreed to between CMRS providers and PSAPs that are different from the compliance dates established by the new rules, section 9.10(s)(5) establishes notification requirements for CMRS providers related to any modification of deadlines between the PSAPs and CMRS providers by mutual agreement. Nothing in this section of the rules shall prevent PSAPs and CMRS providers from establishing, by mutual consent, deadlines different from those established for CMRS provider compliance in paragraphs (s)(1)(i), (ii), and (2) of this section. The CMRS provider must notify the Commission of the dates and terms of the alternate time frame within 30 days of the parties' agreement or by June 12, 2024, whichever is later. The CMRS provider must subsequently notify the Commission of the actual date by which it comes into compliance with the location-based routing requirements in paragraphs (s)(1)(i), (ii), or (2) of section 9.10 within 30 days of that date or by June 12, 2024, whichever is later. The CMRS providers must file any such notifications pursuant to this paragraph (s)(5) in PS Docket No. 18-64.

Federal Communications Commission.
Marlene Dortch,
Secretary, Office of the Secretary.

[FR Doc. 2024-09480 Filed 5-1-24; 8:45 am]

BILLING CODE 6712-01-P